DEPARTMENT OF HEALTH AND HUMAN SERVICES

Centers for Disease Control and Prevention

[30 Day 12-0134]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Foreign Quarantine Regulations (42 CFR 71) (OMB Control No. 0920-0134 expires 6/30/12)—Revision—National Center for Emerging and Zoonotic Infectious Diseases (NCEZID), Centers for Disease Control and Prevention (CDC).

Background and Brief Description

Section 361 of the Public Health Service Act (PHSA)(42 U.S.C. 264) authorizes the Secretary of Health and Human Services (HHS) to make and enforce regulations necessary to prevent the introduction, transmission, or spread of communicable diseases into the United States. Legislation and existing regulations governing the foreign quarantine activities (42 CFR part 71) authorize quarantine officers and other personnel to inspect and undertake necessary control measures with respect to conveyances, persons, and shipments of animals and etiologic agents entering the United States from foreign ports in order to protect the public's health.

Under the foreign quarantine regulations, the master of a ship or captain of an airplane entering the United States from a foreign port is required by public health law to report certain illnesses among passengers (42 CFR 71.21 (b)). In addition to the aforementioned list of illnesses which must be reported to CDC, the master of a ship or captain of an airplane must also report (1) Hemorrhagic Fever Syndrome (persistent fever accompanied by abnormal bleeding from any site); or (2) acute respiratory syndrome (severe cough or severe respiratory disease of less than 3 weeks in duration); or (3) acute onset of fever and severe headache, accompanied by stiff neck or change in level of consciousness. CDC has the authority to collect personal health information to protect the health of the public under the authority of section 301 of the Public Health Service Act (42 U.S.C.).

This information collection request also includes the Passenger Locator Information Form. The Passenger Locator Information Form is used to collect reliable information that assists quarantine officers in locating, in a timely manner, those passengers and crew who are exposed to communicable diseases of public health significance while traveling on a conveyance. HHS delegates authority to CDC to conduct quarantine control measures. Currently, with the exception of rodent inspections and the cruise ship sanitation program, inspections are performed only on those vessels and aircraft which report illness prior to arrival or when illness is discovered upon arrival. Other inspection agencies assist quarantine officers in public health screening of persons, pets, and other importations of public health significance and make referrals to the Public Health Service when indicated. These practices and procedures assure protection against the introduction and spread of communicable diseases into the United States with a minimum of recordkeeping and reporting as well as a minimum of interference with trade and travel.

Small revisions are being requested as part of this package. A modification of format to the Passenger Locator Form (PLF) is requested in this Supporting Statement to account for a change in the scanning software used for the PLF. No change in content is requested. The content will remain identical to the version approved by OMB on 10/28/11.

Changes to the data collection related to the confinement of dogs upon arrival to the United States are also requested. The CDC form 75.37, “Notice of Importers of Dogs” will now be identified as CDC form 75.37 “NOTICE TO OWNERS AND IMPORTERS OF DOGS: Requirement for Dog Confinement.” The form has been changed to enhance clarity around the purpose of the form, including: the type of data required, the regulatory requirements the form is meeting, the responsibilities of the importer, whether or not the animal has received a booster rabies vaccine, and the responsibility of the government agent in ensuring that the form is complete.

Respondents to this data collection include airline pilots, ships' captains, importers, and travelers. The nature of the quarantine response dictates which forms are completed by whom. There are no costs to respondents except for their time to complete the forms.

Estimated Annualized Burden Hour: 227,330 hours.

Type of respondents | Form name | Number of respondents | Number of responses per respondent | Average burden per respondent (in hours)
Maritime conveyance operators | 71.21(a) Radio Report of death/illness—illness reports from ships | 2000 | 1 | 2/60
Aircraft commander or operators | 71.21(b) Death/Illness reports from aircrafts | 1700 | 1 | 2/60
Maritime conveyance operators | 71.21(c) Gastrointestinal Illnesses reports 24 and 4 hours before arrival (VSP) | 17000 | 1 | 3/60
Maritime conveyance operators | 71.21(c) Recordkeeping—Medical logs | 17000 | 1 | 3/60
Isolated or Quarantined individuals | 71.33(c) Report by persons in isolation or surveillance | 11 | 1 | 3/60
Maritime conveyance operators | 71.35 Report of death/illness during stay in port | 5 | 1 | 30/60
Aircraft commander or operators | Locator Form used in an outbreak of public health significance | 2,700,000 | 1 | 5/60
Aircraft commander or operators | Locator Form used for reporting of an ill passenger(s) | 800 | 1 | 5/60
Importer | 71.51(b)(2) Dogs/cats: Certification of Confinement, Vaccination | 2000 | 1 | 10/60
Importer | 71.51(b)(3) Dogs/cats: Record of sickness or deaths | 20 | 1 | 15/60
Importer | 71.52(d) Turtle Importation Permits | 5 | 1 | 30/60
Non-Human Primate Importer | 71.53(d) Importer Registration—Nonhuman Primates | 40 | 1 | 10/60
Non-Human Primate Importer | 71.53(e) Recordkeeping | 30 | 4 | 30/60
Importers | 71.55 Dead bodies | 5 | 1 | 1
Importer | 71.56(a)(2) African Rodents—Request for exemption | 20 | 1 | 1
Importer | 71.56(a)(iii) Appeal | 2 | 1 | 1

Dated: April 17, 2012.
Ron A. Otten,
Director, Office of Scientific Integrity, Office of the Associate Director for Science (OADS), Office of the Director, Centers for Disease Control and Prevention.

[FR Doc. 2012-9721 Filed 4-20-12; 8:45 am]

BILLING CODE 4163-18-P